DEPARTMENT OF JUSTICE

[Docket No. ODAG 164]

Notice of Federal Advisory Committee Meeting

AGENCY: Department of Justice.

ACTION: Notice of Federal Advisory Committee meeting. Request for public comment.

SUMMARY: The National Commission on Forensic Science will hold meeting eleven at the time and location listed below.

DATES:

(1) Public Hearing. The meeting will be held on September 12, 2016 from 12:30 p.m. to 5:15 p.m. and September 13, 2016 from 8:00 a.m. to 4:00 p.m.

(2) Written Public Comment. Written public comment regarding National Commission on Forensic Science meeting materials can be submitted through www.regulations.gov starting on August 29, 2016. Any comments should be posted to www.regulations.gov no later than September 28, 2016.

ADDRESSES: Location: National Institute of Standards and Technology (NIST), Administrative Building #101, West Square Conference Room, 100 Bureau Drive, Gaithersburg, MD 20899. Please note admittance instructions under the SUPPLEMENTARY INFORMATION section of this notice.

FOR FURTHER INFORMATION CONTACT: Jonathan McGrath, Ph.D., Senior Policy Analyst at the National Institute of Justice and Designated Federal Official, 810 7th Street NW., Washington, DC 20531, by email at Jonathan.McGrath@usdoj.gov by phone at (202) 514-6277.

SUPPLEMENTARY INFORMATION: Agenda: Open Meeting: The Commission will meet on September 12, 2016, 12:30 p.m. to 5:15 p.m. and September 13, 2016, 8:00 a.m. to 4:00 p.m. On September 12, the Commission will receive a briefing on technical merit review and Subcommittee status reports. On September 13, the Commission will receive Subcommittee status reports, a briefing on statistical statements of relevance, an update on the Forensic Science Discipline Review from DOJ's Office of Legal Policy and a discussion of ethics issues for NCFS members from DOJ's Departmental Ethics Office. Note: agenda items, including designation of presentation dates are subject to change. A final agenda will be posted to the Commission's Web site in advance of the meeting.

Meeting Accessibility: Pursuant to 41 CFR 102-3.140 through 102-3.165 and the availability of space, the meeting scheduled for September 12, 2016, 12:30 p.m. to 5:15 p.m. and September 13, 2016, 8:00 a.m. to 4:00 p.m. at NIST is open to the public and webcast.

New Visitor Access Requirement: For participants attending in person, please note that federal agencies, including NIST, can only accept a state-issued driver's license or identification card for access to federal facilities if such license or identification card is issued by a state that is compliant with the REAL ID Act of 2005 (Pub. L. 109-13), or by a state that has an extension for REAL ID compliance. NIST currently accepts other forms of federal-issued identification in lieu of a state-issued driver's license. Driver's licenses from six states and territories are not compliant and will not be accepted as identification: Minnesota, Illinois, Missouri, Washington, and American Samoa. In addition, NIST will accept only enhanced driver's licenses (identified by the American Flag on the face of the card) from two states: Minnesota and Washington State. For a list of alternative identification, please visit: http://www.nist.gov/public_affairs/visitor/.

Non U.S. Citizens Please Note: All foreign national visitors who do not have permanent resident status and who wish to register for the above meeting must supply additional information. Failure to provide this information prior to arrival will result, at a minimum, in significant delays (up to 24 hours) in entering the facility. Authority to gather this information is derived from United States Department of Commerce Department Administrative Order (DAO) number 207-12. When on-line registration is open, the required NIST-1260 form will be available. The NIST-1260 form needs to be submitted at least 5 business days in advance of the meeting.

Written Comments: Pursuant to section 10(a)(3) of the FACA and 41 CFR 102-3.105(j) and 102-3.140, the public or interested organizations may submit written comments to the Commission in response to the stated agenda and meeting material. Meeting material, including work products will be made available on the Commission's Web site: http://www.justice.gov/ncfs.

Oral Comments: In addition to written statements, members of the public may present oral comments at 5:00 p.m. on September 12, 2016 and at 3:45 p.m. on September 13, 2016. Those individuals interested in making oral comments should indicate their intent through the on-line registration form and time will be allocated on a first-come, first-served basis. Time allotted for an individual's comment period will be limited to no more than 3 minutes. If the number of registrants requesting to speak is greater than can be reasonably accommodated during the scheduled public comment periods, written comments can be submitted through www.regulations.gov in lieu of oral comments.

Registration: Individuals and entities who wish to attend the public meeting are required to pre-register for the meeting on-line by clicking the registration link found at: https://www.justice.gov/ncfs/term-2-meetings-8-15#s10. Anyone wishing to attend this meeting must register by 5:00 p.m. (EST), Tuesday, September 6, 2016. Registered attendees will receive security and campus instructions prior to the workshop. On-site registration will not be available for this meeting, however, the meeting will be webcast.

Additional Information: The Department of Justice welcomes the attendance of the public at its advisory committee meetings and will make every effort to accommodate persons with physical disabilities or special needs, in coordination with National Institute of Standards and Technology. If you require special accommodations, please indicate your requirements on the online registration form. Please note that seating is limited for public attendees, and will be granted on a first come first serve basis. An overflow room may be used if main conference room spaces is exceeded.

Dated: August 11, 2016.
Andrew J. Bruck,
Acting Chief of Staff and Senior Counsel to the Deputy Attorney General, National Commission on Forensic Science.

[FR Doc. 2016-19628 Filed 8-16-16; 8:45 am]

BILLING CODE 4410-18-P